DEPARTMENT OF JUSTICE

Notice of Lodging of Consent Decree Under the Comprehensive Environmental Response, Compensation, and Liability Act

Notice is hereby given that on July 2, 2003, a proposed Consent Decree in United States v. Eagle Construction Inc., Civil Action No. 03-620, was lodged with the United States District Court for the District of Delaware.

In this action the United States sought recovery under Section 107 of the Comprehensive Environmental Response, Compensation, and Liability Act (“CERCLA”), 42 U.S.C. 9607, of response costs incurred by the United States with respect to the release of hazardous substances at the East 7th Street Drum Site in Wilmington, New Castle County, Delaware. The Consent Decree requires Settling Defendant Eagle Construction to pay $10,000 to the United States, based on Eagle's limited ability to pay. In addition, Eagle agrees to take steps to sell the parcel of land that comprises the Site and to pay to the United States the net proceeds of such sale.

The Department of Justice will receive for a period of thirty (30) days from the date of this publication comments relating to the Consent Decree. Comments should be addressed to the Assistant Attorney General, Environment and Natural Resources Division, PO Box 7611, U.S. Department of Justice, Washington, DC 20044-7611, and should refer to United States v. Eagle Construction, Inc., D.J. Ref. No. 90-11-3-07185/1.

The Consent Decree may be examined at the Office of the United States Attorney, District of Delaware, Chase Manhattan Centre, 1201 Market Street, Suite 1100, Wilmington, DE 19801, and at U.S. Environmental Protection Agency Region III, 1650 Arch Street, Philadelphia, PA 19103. During the public comment period, the Consent Decree may also be examined on the following Department of Justice Web site, http://www.usdoj.gov/enrd/open.html. A copy of the Consent Decree may also be obtained by mail from the Consent Decree Library, PO Box 7611, U.S. Department of Justice, Washington, DC 20044-7611 or by faxing or e-mailing a request to Tonia Fleetwood (tonia.fleetwood@usdoj.gov), fax no. (202) 514-0097, phone confirmation number (202) 514-1547. In requesting a copy, please enclose a check in the amount of $8.00 (25 cents per page reproduction cost) payable to the U.S. Treasury.

Robert D. Brook,
Assistant Chief, Environmental Enforcement Section, Environment and Natural Resources Division.

[FR Doc. 03-18051 Filed 7-16-03; 8:45 am]

BILLING CODE 4410-15-M